DEPARTMENT OF COMMERCE

National Oceanic and Atmospheric Administration

Solicitation of Nominations for the Marine Debris Foundation Board of Directors

AGENCY: National Ocean Service, National Oceanic and Atmospheric Administration (NOAA), Department of Commerce.

ACTION: Notice of solicitation of nominations.

SUMMARY: The National Oceanic and Atmospheric Administration is seeking nominations of qualified candidates to be considered for appointment as a member of the Marine Debris Foundation Board of Directors (Board). The Board shall consist of 13 Directors, including the Under Secretary of Commerce for Oceans and Atmosphere.

DATES: Nominations to the Board of Directors for the Marine Debris Foundation must be received in entirety no later than 11:59 p.m. EDT on June 30, 2021. Nomination packages received after this time will not be considered.

ADDRESSES: All nominations should be emailed (recommended) to marinedebris.foundation@noaa.gov with the subject line “Marine Debris Foundation Nomination”, or mailed to Caitlin Wessel, Marine Debris Foundation Nomination, c/o NOAA Disaster Response Center, 7344 Ziegler Blvd., Mobile, AL 36608.

FOR FURTHER INFORMATION CONTACT: Caitlin Wessel, Ph.D., Phone 251-222-0276; Email caitlin.wessel@noaa.gov or visit the NOAA Marine Debris Program website at https://marinedebris.noaa.gov/who-we-are/marine-debris-foundation.

SUPPLEMENTARY INFORMATION: On December 18, 2020 the passage of the Save Our Seas (SOS) 2.0 Act established the Marine Debris Foundation (Foundation) as a charitable and nonprofit organization. The purposes of the Foundation include encouraging, accepting, and administering private gifts of property for the benefit of, or in connection with, the activities of the National Oceanic and Atmospheric Administration (NOAA) under the Marine Debris Act, 33 U.S.C. 1952, and other relevant agencies; conducting activities that will augment NOAA's efforts to address marine debris; participating with and assisting other governments, entities, and individuals in addressing marine debris; and supporting other activities related to marine debris.

NOAA is searching for twelve people to serve as Directors on the new Foundation's governing Board of Directors (Board). The Board shall represent diverse points of view relating to the assessment, prevention, reduction, and removal of marine debris. Expertise is being sought in the following categories: (1) The assessment, prevention, reduction, or removal of marine debris, which may include an individual with expertise in post-consumer materials management or a circular economy; (2) the assessment, prevention, reduction, or removal of marine debris outside the United States; (3) ocean and coastal resource conservation science or policy; (4) international perspectives on marine debris, including expertise in trade agreements, treaties, or foreign policy; and (5) fundraising and nonprofit management.

Responsibilities of the Board: The major responsibilities of the Board of Directors will include, but are not necessarily limited to, the following:

1. Appoint officers and employees consistent with the provisions of the SOS 2.0 Act; adopt a constitution and bylaws consistent with the purposes of the Foundation and the provisions of the SOS 2.0 Act; elect a Chair for a two-year term; and undertake such other acts as may be necessary to complete the organization of the Foundation.

2. Prepare for, attend, and participate in Board meetings at least once a year.

3. Ensure effective organizational planning, including a business plan and other governing documents, to ensure effective governance of the Foundation.

4. Facilitate the Foundation's encouragement, acceptance, and administration of private gifts of property to ensure adequate resources to conduct the business of the Foundation.

5. Actively participate in fundraising, identify prospective donors, and support the fundraising program.

6. Manage resources effectively to support the purposes of the Foundation.

7. Maintain the annual budget.

8. Fulfill all responsibilities of the Board as provided in the SOS 2.0 Act.

9. Hire and evaluate annually a chief operating officer who shall be knowledgeable and experienced in matters relating to the assessment, prevention, reduction, and removal of marine debris.

10. Sign an annual conflict of interest disclosure.

11. Provide a report at the end of each fiscal year to Congress as required under the SOS 2.0 Act.

Required Selection Criteria: The Under Secretary of Commerce for Oceans and Atmosphere, with the approval of the Secretary of Commerce, shall appoint twelve Directors who meet the criteria established by the SOS 2.0 Act, of whom: At least four shall be educated or experienced in the assessment, prevention, reduction, or removal of marine debris, which may include an individual with expertise in post-consumer materials management or a circular economy; at least two shall be educated or experienced in the assessment, prevention, reduction, or removal of marine debris outside the United States; at least two shall be educated or experienced in ocean and coastal resource conservation science or policy; and at least two shall be educated or experienced in international trade or foreign policy. The Directors shall be appointed from among individuals who are United States citizens. The SOS 2.0 Act directs the Under Secretary to appoint these twelve Directors after consulting with the Administrator of the Environmental Protection Agency, the Director of the U.S. Fish and Wildlife Service, the Assistant Secretary of State for the Bureau of Oceans and International Environmental and Scientific Affairs, and the Administrator of the U.S. Agency for International Development.

Additional Selection Criteria: NOAA seeks nominees with one or more of the following areas of expertise: Fundraising, finance, accounting, nonprofit or foundation law, human resources, management, research, and politics. Nominees should demonstrate one or more of the following competencies: Strategic leadership; vision and mission development; networking; governance; communications; public relations; marketing; justice, equity, diversity, and inclusion; and understanding community needs. NOAA seeks nominees representing diverse experiences, including gender, culture, education, career stage, geography, sector, and other considerations, in alignment with Department of Commerce equal opportunity policies (Department Administrative Order 215-3). Candidates should be willing to contribute to a diverse, equitable, and inclusive Board. All nominations will be fully considered, and qualified candidates need to be aware of the specific representation sought as outlined in the required selection criteria.

Term Length and Additional Restrictions: The initial Board of Directors will be appointed with staggered term lengths. Four Directors will be appointed for a term of six years; four Directors will be appointed for a term of four years; and four Directors will be appointed for a term of two years. Directors shall serve without pay, but may be reimbursed for the actual and necessary traveling and subsistence expenses incurred by them in the performance of the duties to the Foundation. Appointment as a Director of the Foundation shall not constitute employment by, or the holding of an office of, the United States for the purpose of any Federal law.

Candidates Should Submit the Following Items: The following items are required parts of the nomination package:

1. Completed Nomination Form (PDF, can be downloaded at https://marinedebris.noaa.gov/who-we-are/marine-debris-foundation).

2. Current resume, including: Complete contact information (telephone numbers, email address, mailing address); career sector (e.g., federal, state, industry, nonprofit, etc.); education history; work history and related experience; honors and awards; activities and hobbies; and skills. No more than two pages in length, saved as a .doc or .docx file.

3. Statement of Interest, including: A description of the candidate's qualifications; diversity statement (should include how the candidate will contribute to a diverse, equitable, and inclusive Board); fundraising statement (should include candidate's past experiences with fundraising and how they will contribute to a robust fundraising program for the Foundation); list of required selection criteria met and a short summary of how the candidate meets the specified criteria; list of additional selection criteria met and a short summary of how the candidate meets the specified criteria; and why the candidate would be a good fit for the Board. No more than four pages in length, saved as a .doc or .docx file.

4. At least one letter of recommendation, but no more than three, saved as a .pdf file. Letters should be no longer than two pages in length and demonstrate the candidate's qualifications.

Nominations may be submitted by the candidate themselves, or by the person/organization recommending the candidate. If submitted by someone other than the candidate, the nomination package should include a signed statement from the candidate agreeing to be nominated. Incomplete applications will not be considered.

Additional information about the solicitation of nominations for the Marine Debris Foundation Board of Directors can be found at https://marinedebris.noaa.gov/who-we-are/marine-debris-foundation.

(Authority: Pub. L. 116-224, 112, Dec. 18, 2020, 134 Stat. 1072)

Scott Lundgren,
Director, Office of Response and Restoration, National Ocean Service.

[FR Doc. 2021-10571 Filed 5-18-21; 8:45 am]

BILLING CODE 3510-NK-P